DEPARTMENT OF COMMERCE

International Trade Administration

(A-337-803)

Notice of Final Results of Changed Circumstances Antidumping Duty Review: Fresh Atlantic Salmon From Chile

AGENCY: Import Administration, International Trade Administration, Department of Commerce.

SUMMARY: On August 22, 2000, the Department issued preliminary results of a changed circumstances review with respect to the antidumping duty order on fresh Atlantic salmon from Chile. In those preliminary results, the Department determined that Pesquera Mares Australes, Ltda. (Mares Australes), after merging with Marine Harvest Chile, S.A. (Marine Harvest), constituted a new entity that was subject to the antidumping duty order on fresh Atlantic salmon from Chile. The Department directed that liquidation of entries of subject merchandise under the name of Marine Harvest be suspended effective retroactively to July 1, 2000, the date of the merger of Mares Australes and Marine Harvest. After considering comments from interested parties, the Department continues to find that the post-merger Marine Harvest is a new entity subject to the antidumping duty order on fresh Atlantic salmon from Chile. Moreover, the Department has determined that, as the old Marine Harvest's sales were combined with those of Mares Australes during the second administrative review of fresh Atlantic salmon from Chile, the cash deposit rate applicable to future entries by Marine Harvest is the rate calculated for those combined sales.

EFFECTIVE DATE: August 13, 2001.

FOR FURTHER INFORMATION CONTACT: Edward Easton or Gabriel Adler, at (202) 482-3003 or (202) 482-3813, respectively; AD/CVD Enforcement Office V, Group II, Import Administration, International Trade Administration, U.S. Department of Commerce, 14th Street & Constitution Avenue, NW., Washington, DC 20230.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (1999).

Background

On July 30, 1998, the Department issued an antidumping duty order on fresh Atlantic salmon from Chile. See Notice of Amended Final Determination of Sales at Less Than Fair Value and Antidumping Duty Order: Fresh Atlantic Salmon from Chile, 63 FR 40699 (July 30, 1998). The order covered merchandise produced by a number of companies, including Mares Australes, Ltda. (Mares Australes). The order excluded merchandise produced by a number of other companies, including Marine Harvest, which had been found to be dumping at a de minimis level in the less-than-fair-value (LTFV) investigation.

On July 15, 1999, the parent company of Mares Australes purchased Marine Harvest. One week after the acquisition, the managing director of Mares Australes formed several task forces of Mares Australes and Marine Harvest officials to discuss how to harmonize and integrate the management of the two companies. By the end of 1999, the companies had laid off redundant management, and had created a single management structure.

Mares Australes and Marine Harvest continued to distinguish salmon produced at their respective facilities, and to export their salmon to the United States under the respective names, until the end of June 2000. On July 1, 2000, the parent company of Mares Australes directed, through a shareholder's meeting, that Mares Australes be formally merged with Marine Harvest, and that the merged entity do business under the name of Marine Harvest. A detailed explanation of these developments can be found in the memorandum from the team to Gary Taverman, dated August 21, 2000 (Mares Australes sales verification report), from the record of the first administrative review of the antidumping duty order on fresh Atlantic salmon from Chile and placed on the record of this changed circumstances review.

On July 25, 2000, the petitioners filed a letter with the Department expressing concern over the merger of Marine Harvest and Mares Australes, and requesting the immediate suspension of liquidation of subject merchandise exported under the name of Marine Harvest.

On August 22, 2000, based on the comments submitted by the petitioners, as well as information obtained by the Department, the Department simultaneously initiated a changed circumstances review and issued preliminary results of review. See Notice of Initiation and Preliminary Results of Changed Circumstances Antidumping Duty Review: Fresh Atlantic Salmon from Chile, 65 FR 52065 (August 28, 2000). The Department directed that liquidation of entries of subject merchandise under the name of Marine Harvest be suspended effective retroactively to July 1, 2000, the date of the merger of Mares Australes and Marine Harvest.

The Department received a case brief from Marine Harvest on January 4, 2001, and a rebuttal brief from the petitioners on January 11, 2001. A public hearing was held on March 15, 2001.

Scope of the Review

The product covered by this review is fresh, farmed Atlantic salmon, whether imported “dressed” or cut. Atlantic salmon is the species Salmo salar, in the genus Salmo of the family salmoninae. “Dressed” Atlantic salmon refers to salmon that has been bled, gutted, and cleaned. Dressed Atlantic salmon may be imported with the head on or off; with the tail on or off; and with the gills in or out. All cuts of fresh Atlantic salmon are included in the scope of the review. Examples of cuts include, but are not limited to: crosswise cuts (steaks), lengthwise cuts (fillets), lengthwise cuts attached by skin (butterfly cuts), combinations of crosswise and lengthwise cuts (combination packages), and Atlantic salmon that is minced, shredded, or ground. Cuts may be subjected to various degrees of trimming, and imported with the skin on or off and with the “pin bones” in or out.

Excluded from the scope are (1) fresh Atlantic salmon that is “not farmed” (i.e., wild Atlantic salmon); (2) live Atlantic salmon; and (3) Atlantic salmon that has been subject to further processing, such as frozen, canned, dried, and smoked Atlantic salmon, or processed into forms such as sausages, hot dogs, and burgers.

The merchandise subject to this investigation is classifiable as item numbers 0302.12.0003 and 0304.10.4093, 0304.90.1009, 0304.90.1089, and 0304.90.9091 of the Harmonized Tariff Schedule of the United States (HTSUS). Although the HTSUS statistical reporting numbers are provided for convenience and customs purposes, the written description of the merchandise is dispositive.

Analysis of Comments Received

All issues raised in the case and rebuttal briefs submitted by the parties to this changed circumstances review are listed in the appendix to this notice, and addressed in the August 7, 2001 Decision Memorandum, which is hereby adopted by this notice. A list of the issues addressed in the Decision Memorandum is appended to this notice. The Decision Memorandum is a public document and is on file in Room B-099 of the main Commerce building. In addition, a complete version of the memorandum can be accessed directly on the Web at ia.ita.doc.gov. The paper copy and electronic version of the Decision Memorandum are identical in content.

Final Results of the Changed Circumstances Review

Based on our analysis of the comments received, we determine that the post-merger Marine Harvest is not the successor-in-interest to either the pre-merger Marine Harvest or the pre-merger Mares Australes, but rather is a new entity subject to the antidumping order. Further, we are assigning to Marine Harvest a cash deposit rate of 0.00 percent, the rate calculated for the combined sales of Marine Harvest and Mares Australes during the second administrative review. We will instruct the U.S. Customs Service accordingly.

We are issuing these final results and notice in accordance with sections 751(b)(1) and 777(i)(1) of the Act and § 351.216 of the Department's regulations.

Dated: August 6, 2001.
Faryar Shirzard,
Assistant Secretary for Import Administration.

Appendix

1. Whether Marine Harvest is a new entity subject to the antidumping order.

2. Whether Maine Harvest's procedural rights were violated.

[FR Doc. 01-20271 Filed 8-10-01; 8:45 am]

BILLING CODE 3510-DS-P